DEPARTMENT OF VETERANS AFFAIRS

Advisory Committee on Women Veterans; Notice of Meeting

The Department of Veterans Affairs (VA) gives notice under Public Law 92-463 (Federal Advisory Committee Act) that the Advisory Committee on Women Veterans will meet February 8-10, 2005, from 8:15 a.m. to 4 p.m. each day, in room 630, VA Central Office, 810 Vermont Avenue, NW., Washington, DC 20420. The meeting is open to the public.

The purpose of the Committee is to advise the Secretary of Veterans Affairs regarding the needs of women veterans with respect to health care, rehabilitation, compensation, outreach, and other programs and activities administered by VA designed to meet such needs. The Committee will make recommendations to the Secretary regarding such programs and activities.

On February 8, the agenda will include briefings and updates on issues related to women veterans' in the Veterans Health Administration (VHA), including any treatment issues related to Operation Iraqi Freedom and Operation Enduring Freedom combat veterans and VA's “Seamless Transition” initiative; next steps and implementation of the Capital Asset Realignment for Enhanced Services (CARES) recommendations; briefings and updates on issues in the Veterans Benefits Administration; a briefing from VHA's Women Veterans Health Program Director; legislative issues related to veterans; presentation of Certificates of Appointment to four new Committee members, and a briefing from the National Cemetery Administration. On February 9, the Committee will receive updates and briefings on VA research and studies related to women's health issues, upcoming initiatives of the Center for Women Veterans, and will discuss any new issues that the Committee members may introduce. On February 10, the Committee will be briefed on VA's homeless programs, VA's National Veterans Employment Program, the VA/DoD Health Executive Council, and research efforts related to the rate of PTSD in women veterans by ethnicity and geographic location.

Any member of the public wishing to attend should contact Ms. Rebecca Schiller, at the Department of Veterans Affairs, Center for Women Veterans (00W), 810 Vermont Avenue, NW., Washington, DC 20420. Ms. Schiller may be contacted either by phone at (202) 273-6193, fax at (202) 273-7092, or e-mail at 00W@mail.va.gov. Interested persons may attend, appear before, or file statements with the Committee. Written statements must be filed before the meeting, or within 10 days after the meeting.

Dated: January 13, 2005.
By direction of the Secretary.
E. Philip Riggin,
Committee Management Officer.

[FR Doc. 05-1304 Filed 1-24-05; 8:45 am]

BILLING CODE 8320-01-M